DEPARTMENT OF EDUCATION

Notice of Proposed Collection Requests; Comment Request

AGENCY: Department of Education

ACTION: Correction Notice

SUMMARY: On August 19, 2014, the U.S. Department of Education published a 60-day comment period notice in the Federal Register (Page 49069, Column 1) seeking public comment for an information collection entitled, “Generic Application Package for Departmental Generic Grant Programs.” This notice was published in error. The comment period for this information collection request ends on September 2, 2014.

On July 3, 2014, the U.S. Department of Education published a 60-day comment period notice in the Federal Register (Page 38017, Column 1) seeking public comment for an information collection entitled, “Generic Application Package for Discretionary Grant Program.” The abstract omitted a section of the CFR where selected criteria are also covered under generic applications. The abstract is corrected as follows.

The Department is requesting an extension of the approval for the Generic Application Package that numerous ED discretionary grant programs use to provide to applicants the forms and information needed to apply for new grants under those grant program competitions. The Department will use this Generic Application package for discretionary grant programs that: (1) Use the standard ED or Federal-wide grant applications forms that have been cleared separately through OMB under the terms of this generic clearance as approved by OMB and (2) use selection criteria from the Education Department General Administrative Regulations (EDGAR); selection criteria that reflect statutory or regulatory provisions that have been developed under 34 CFR 75.209, or a combination of EDGAR, statutory or regulatory criteria or other provisions, as authorized under 34 CFR 75.200 and 75.209. The use of the standard ED grant application forms and the use of EDGAR and/or criteria developed under §§ 75.200 and 75.209 promotes the standardization and streamlining of ED discretionary grant application packages.

The Acting Director, Information Collection Clearance Division, Privacy, Information and Records Management Services, Office of Management, hereby issues a correction notice as required by the Paperwork Reduction Act of 1995.

Dated: August 21, 2014.
Stephanie Valentine,
Acting Director, Information Collection Clearance Division, Privacy, Information and Records Management Services, Office of Management.

[FR Doc. 2014-20293 Filed 8-26-14; 8:45 am]

BILLING CODE 4000-01-P